DEPARTMENT OF COMMERCE

International Trade Administration

Exporters' Textile Advisory Committee; Notice of Open Meeting

A meeting of the Exporters’ Textile Advisory Committee will be held in Los Angeles, CA at 1:00 pm on Wednesday, March 16, 2005 at the California Fashion Association, 444 South Flower Street, 34th Floor, Los Angeles, CA 90071, phone: (213) 688-6288.

The Committee provides advice and guidance to Department officials on the identification and surmounting of barriers to the expansion of textile exports, and on methods of encouraging textile firms to participate in export expansion.

The Committee functions solely as an advisory body in accordance with the provisions of the Federal Advisory Committee Act.

The meeting will be open to the public with a limited number of seats available. For further information or copies of the minutes, contact Rachel Alarid, telephone: (202) 482-5154.

January 11, 2005.

Philip J. Martello,
Acting Chairman, Committee for Implementation of Textile Agreements.

[FR Doc. E5-163 Filed 1-14-05; 8:45 am]

BILLING CODE 3510-DS-S